DEPARTMENT OF LABOR

Employment and Training Administration

[TA-W-63,668]

R.D. Reeves Construction, Inc., Employed On-Site at Longview Timber, Longview, WA; Notice of Termination of Investigation

Pursuant to Section 221 of the Trade Act of 1974, as amended, an investigation was initiated on July 10, 2008, in response to a worker petition filed by an AFL-CIO official on behalf of workers of R.D. Reeves Construction, Inc. employed on-site at Longview Timber, Longview, Washington.

The petitioner is not an authorized representative of the group of workers covered by this petition, rendering this petition invalid. Consequently, further investigation in this case would serve no purpose, and the investigation has been terminated.

Signed at Washington, DC, this 25th day of August 2008.
Richard Church,
Certifying Officer, Division of Trade Adjustment Assistance.

[FR Doc. E8-20350 Filed 9-2-08; 8:45 am]

BILLING CODE 4510-FN-P